DEPARTMENT OF THE INTERIOR

Geological Survey

Bird Banding Laboratory Advisory Committee

AGENCY: U.S. Geological Survey.

ACTION: Notice of meeting.

SUMMARY: The third meeting of the Advisory Committee on the Bird Banding Laboratory (Committee) will take place June 13 and 14, 2006, at the Western Regional Office for Ducks Unlimited, 3074 Gold Canal Drive, Rancho Cordova, California 95670-6116. The meeting runs from 8:30 a.m. to 4:30 p.m. each day. The purpose of the Advisory Committee, which is co-chaired by the USGS and the U.S. Fish and Wildlife Service, is to represent the interests of the bird banding community, including both game and non-game birds, in advising the U.S. Department of the Interior, USGS, on current and future management of the Bird Banding Laboratory. The agenda for this meeting will focus on a full Committee review of the results of the work done since the last meeting by the writing subgroup. The subgroup was charged with developing draft one-page position papers on the following topics: (1) Bird banding permits; (2) data collection and storage; (3) data dissemination; (4) partnerships; and overarching issues. Subsequent to the review discussion, the Committee will finalize statements for each issue and begin developing recommendations for action.

The meeting is open to all members of the interested public, and time on the agenda has been reserved at the conclusion of each day's work for the Committee to receive verbal comments (limited to 5 minutes per person) from the public. To speak before the Committee, please register in advance with Mr. Daniel James (see contact information below), the USGS Designated Federal Official (DFO) for the Committee.

FOR FURTHER INFORMATION CONTACT: Daniel L. James, 12201 Sunrise Valley Drive, MS 301, Reston, Virginia 20192; 703-648-4253, e-mail; dan_james@usgs.gov.

Dated: April 27, 2006.
Susan D. Haseltine,
Associate Director for Biology.

[FR Doc. 06-4136 Filed 5-2-06; 8:45 am]

BILLING CODE 4311-AM-M